DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before June 16, 2008. Address written comments to Statutory Import Programs Staff, Room 2104, U.S. Department of Commerce, Washington, D.C. 20230. Applications may be examined between 8:30 A.M. and 5:00 P.M. at the U.S. Department of Commerce in Room 2104.

Docket Number: 08-019. Applicant: Texas Christian University, 2800 South University Drive, Fort Worth, Texas 76129. Instrument: Electron Microscope, Model JEM-2100. Manufacturer: JEOL, Inc., Japan. Intended Use: The instrument is intended to be used to study inorganic solid nanostructures and biological materials, in particular their structure and composition. These materials will be structurally characterized using the electron microscope and, depending on their composition, may undergo subsequent analysis for their optical, electrical, or biological activity. Application accepted by Commissioner of Customs: May 5, 2008.

Docket Number: 08-023. Applicant: Washington University in St. Louis, 1 Brookings Drive, University City, MO 63130. Instrument: Electron Microscope, Model Tecnai G2 Spirit Twin. Manufacturer: FEI Company, Czech Republic. Intended Use: The instrument is intended to be used to analyze the surface morphology, shape, size, size-distribution, uniformity and chemical composition of various materials, including nanostructured metals, metal-oxides, semiconductors, polymers, polymer fibers and biological materials. Application accepted by Commissioner of Customs: May 14, 2008.

Docket Number: 08-024. Applicant: Washington University in St. Louis, 1 Brookings Drive, University City, MO 63130. Instrument: Electron Microscope, Model Nova NanoSEM 230 . Manufacturer: FEI Company, Czech Republic. Intended Use: The instrument is intended to be used to analyze the surface morphology, shape, size, size-distribution, uniformity and chemical composition of various materials, including nanostructured metals, metal-oxides, semiconductors, polymers, polymer fibers and biological materials. Application accepted by Commissioner of Customs: May 14, 2008.

Dated: May 21, 2008.
Faye Robinson,
Director, Statutory Import Programs Staff.

[FR Doc. E8-11761 Filed 5-23-08; 8:45 am]

BILLING CODE 3510-DS-S